FEDERAL ELECTION COMMISSION

Sunshine Act Notices

Agency: Federal Election Commission.

Date and Time: Thursday, May 27, 2010, at 10 a.m.

Place: 999 E Street, NW., Washington, DC (Ninth Floor)

Status: This Meeting Will Be Open to the Public.

Items To Be Discussed: Correction and Approval of Minutes.

Draft Advisory Opinion 2010-05: Starchannel Communications, Inc., by Stephen L. Cram, counsel.

Draft Advisory Opinion 2010-06: Famos LLC, by Christopher A. Shining, Senior Vice President.

Draft Advisory Opinion 2010-07: Yes on FAIR, by Brian G. Svoboda and Kate S. Keane of Perkins Cole LLP, counsel; and Frederic D. Woocher and Aimee Dudovitz of Strumwasser & Woocher LLP, counsel.

Discussion of Audit Policies and Procedures.

Report of the Audit Division on the AFL-CIO COPE PCC.

Report of the Audit Division on CWA-COPE.

Management and Administrative Matters.

Individuals who plan to attend and require special assistance, such as sign language interpretation or other reasonable accommodations, should contact Darlene Harris, Acting Commission Secretary, at (202) 694-1040, at least 72 hours prior to the hearing date.

Person to Contact for Information: Judith Ingram, Press Officer, Telephone: (202) 694-1220.

Darlene Harris,
Acting Secretary of the Commission.

[FR Doc. 2010-12549 Filed 5-26-10; 8:45 am]

BILLING CODE 6715-01-M